DEPARTMENT OF DEFENSE

Office of the Department of the Air Force

Department of the Air Force Scientific Advisory Board; Notice of Federal Advisory Committee Meeting

AGENCY: Department of the Air Force Scientific Advisory Board, Department of the Air Force.

ACTION: Notice of federal advisory committee meeting.

SUMMARY: The Department of Defense (DoD) is publishing this notice in accordance with chapter 10 of title 5, United States Code, to announce that the following meeting of the Department of the Air Force Scientific Advisory Board will take place.

DATES: Closed to the public. 15 June 2023 from 8:15 a.m.-3:45 p.m. Eastern Time.

ADDRESSES: The meeting will be held at Gen. Jacob E. Smart Conference Center, Joint Base Andrews, 1359 Arkansas Road, Joint Base Andrews, MD 20762.

FOR FURTHER INFORMATION CONTACT: Lt. Col. Blythe Andrews, (240) 470-4566 (Voice), blythe.andrews@us.af.mil (Email). Mailing address is 1500 West Perimeter Road, Ste. #3300, Joint Base Andrews, MD 20762. Website: https://www.scientificadvisoryboard.af.mil/. The most up-to-date changes to the meeting agenda can be found on the website.

SUPPLEMENTARY INFORMATION: This meeting is being held under the provisions of chapter 10 of title 5, United States Code (as enacted on Dec. 27, 2022, by section 3(a) of Pub. L. 117-286) (formerly the Federal Advisory Committee Act, 5 U.S.C., appendix), section 552b of title 5, United States Code (popularly known as the Government in the Sunshine Act), and 41 CFR 102-3.140 and 102-3.150.

Purpose of the Meeting: The purpose of this Department of the Air Force Scientific Advisory Board meeting is for the Parent Board to receive final outbriefs on the FY23 studies: Assessing Advances Aerospace Mobility Concepts (AMC), Developmental and Operational Testing (DOT), Generative Artificial Intelligence (GAI), Air and Surface Moving Target Indication (MTI) and Scalable Approaches to Resilient Air Operations (RAO).

Agenda: [All times are Eastern Time] 8:15 a.m.-9:15 a.m. Opening Remarks and Status Update 9:15 a.m.-10:15 a.m. DOT 10:15 a.m.-10:30 a.m. Break 10:30 a.m.-11:30 a.m. GAI 11:30 a.m.-12:30 p.m. Lunch 12:30 p.m.-1:30 p.m. Scalable Approaches to RAO 1:30 p.m.-2:30 p.m. Assessing Advanced AMC 2:30 p.m.-2:45 p.m. Break 2:45 p.m.-3:45 p.m. Air and Surface MTI Brief 3:45 p.m.-4:00 p.m. Closing Remarks. In accordance with section 1009(d) of title 5, United States Code (formerly sec. 10(d) of the Federal Advisory Committee Act, 5 U.S.C. appendix) and 41 CFR 102-3.155, the Administrative Assistant of the Air Force, in consultation with the Air Force General Counsel, has agreed that the public interest requires this meeting of the United States Department of the Air Force Scientific Advisory Board be closed to the public because it will involve discussions involving classified matters covered by section 552b(c)(1) of title 5, United States Code.

Written Statements: Any member of the public wishing to provide input to the United States Department of the Air Force Scientific Advisory Board should submit a written statement in accordance with 41 CFR 102-3.140(c), section 1009(a)(3) of title 5, United States Code (formerly sec. 10(a)(3) of the Federal Advisory Committee Act), and the procedures described in this paragraph. Written statements can be submitted to the Designated Federal Officer at the address detailed above at any time. The Designated Federal Officer will review all submissions with the Department of the Air Force Scientific Advisory Board Chairperson and ensure they are provided to members of the Department of the Air Force Scientific Advisory Board. Written statements received after the meeting that is the subject of this notice may not be considered by the Scientific Advisory Board until the next scheduled meeting.

Tommy W. Lee,
Acting Air Force Federal Register Liaison Officer.

[FR Doc. 2023-11107 Filed 5-24-23; 8:45 am]

BILLING CODE 5001-10-P